DEPARTMENT OF EDUCATION

Applications for New Awards; Rehabilitation Training: Innovative Rehabilitation Training Program

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. The Department of Education (Department) is issuing a notice inviting applications for fiscal year (FY) 2019 for the Innovative Rehabilitation Training Program, Catalog of Federal Domestic Assistance (CFDA) number 84.263C. The competition funds time-limited pilot demonstration projects to develop, refine, implement, evaluate, and disseminate innovative methods of training vocational rehabilitation (VR) personnel to support the work of the State VR agencies and the implementation of the Rehabilitation Act of 1973, as amended by the Workforce Innovation and Opportunity Act (Rehabilitation Act). In the FY 2019 competition, the Department is focusing on innovative rehabilitation training in the following areas: VR counseling, VR services to individuals with autism spectrum disorder (ASD), VR services to individuals with intellectual disabilities, career assessment (also referred to as “vocational evaluation”) for VR service recipients, employer engagement in the VR process, and field-initiated projects in an area related to VR. This notice relates to the approved information collection under OMB control number 1820-0018.

DATES:

Applications Available: July 5, 2019.

Deadline for Transmittal of Applications: August 14, 2019.

Pre-Application Webinar Information: No later than July 10, 2019, OSERS will post pre-recorded informational webinars designed to provide technical assistance to interested applicants. The webinars may be found at: www2.ed.gov/fund/grant/apply/rsa/new-rsa-grants.html.

Pre-Application Q&A Blog: No later than July 10, 2019, OSERS will open a blog where interested applicants may post questions about the application requirements for this competition and where OSERS will post answers to the questions received. OSERS will not respond to questions unrelated to the application requirements for this competition. The blog will be available at www2.ed.gov/fund/grant/apply/rsa/new-rsa-grants.html and will remain open until July 24, 2019. After the blog closes, applicants should direct questions to the person listed under FOR FURTHER INFORMATION CONTACT.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Cassandra P. Shoffler, U.S. Department of Education, 400 Maryland Avenue SW, Room 5122, Potomac Center Plaza, Washington, DC 20202-2800. Telephone: (202) 245-7827. Email: cassandra.shoffler@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Innovative Rehabilitation Training program is designed to develop (a) new types of training programs for rehabilitation personnel and to demonstrate the effectiveness of these new types of training programs for rehabilitation personnel in providing rehabilitation services to individuals with disabilities; (b) new and improved methods of training rehabilitation personnel so that there may be a more effective delivery of rehabilitation services to individuals with disabilities by designated State rehabilitation agencies and designated State rehabilitation units or other public or non-profit rehabilitation service agencies or organizations; and (c) new innovative training programs for VR professionals and paraprofessionals to have a 21st-century understanding of the evolving labor force and the needs of individuals with disabilities so they can more effectively provide VR services to individuals with disabilities.

Priority: This competition includes one absolute priority. We are establishing this priority for FY 2019 and any subsequent year in which we make awards from the list of unfunded applications from this competition, in accordance with section 437(d)(1) of the General Education Provisions Act (GEPA), 20 U.S.C. 1232(d)(1).

Absolute Priority: For FY 2019, and any subsequent year in which we make awards from the list of unfunded applications from this competition, this priority is an absolute priority. Under 34 CFR 75.105(c)(3) we consider only applications that meet this priority.

This priority is:

Innovative Rehabilitation Training Projects.

Background: The Innovative Rehabilitation Training priority aligns with the OSERS framework by funding projects designed to strengthen, improve, develop, and provide training to VR professionals and paraprofessionals serving students and youth with disabilities, parents and guardians of youth with disabilities, and adults with disabilities and to improve employment outcomes and raise expectations for all people with disabilities, their families, their communities, and the Nation. This priority is an example of a competition designed to foster flexible and affordable paths to obtaining knowledge and skills and to meet the unique needs of individuals with disabilities, as identified in the Secretary's priorities. Specifically, this priority requires grantees to develop current and, to the extent possible, evidence-based training modules for inclusion in rehabilitation counseling education programs and for use as stand-alone modules in order to develop or implement pathways to recognized postsecondary credentials and to provide work-based learning experiences such as apprenticeships, internships, and practica. Further, under this priority, grantees may help VR professionals and paraprofessionals learn how to meet the unique needs of individuals with disabilities; create or expand opportunities for students and youth receiving transition services; assist individuals with disabilities to obtain recognized postsecondary credentials, including postsecondary credentials in science, technology, engineering, mathematics, or computer science, as they pursue careers; and expand partnerships with appropriate entities, such as State VR agencies, State educational agencies, local educational agencies, schools, businesses, not-for-profit professional organizations, and organizations of, or representing, individuals with disabilities. This priority also involves promoting economic opportunity for individuals with disabilities. Projects must be operated in a manner consistent with nondiscrimination requirements contained in the U.S. Constitution and the Federal civil rights laws.

With this priority, the Secretary intends to fund innovative rehabilitation training projects to develop, pilot, refine, implement, evaluate, and disseminate training to support the work of the State VR agencies and the implementation of the Rehabilitation Act, and to focus on training VR personnel. The Secretary intends to award one national project in each of the following topic areas: (1) VR counseling, (2) VR services to individuals with Autism Spectrum Disorders (ASD), (3) VR services to individuals with intellectual disabilities, (4) career assessment for VR service recipients, and (5) employer engagement in the VR process. In addition, the Secretary intends to award one national project in a sixth topic area: a field-initiated project in an area related to VR. In the event that there are no applications submitted or deemed eligible to fund in Topic Areas 1, 2, 3, 4, or 5 the Secretary may fund more than one field-initiated project under Topic Area 6.

With respect to Topic Area 1-VR counseling, according to the U.S. Department of Labor, the growth rate of rehabilitation counseling positions is faster than average, with a projected 13 percent growth in rehabilitation counseling positions from 2016 to 2026 (Bureau of Labor Statistics). According to the O*Net Summary Report for Rehabilitation Counselors, the projected growth in the field of VR counseling from 2016 to 2026 is expected to be faster than average at 10 percent to 14 percent, with 14,500 job openings projected by 2026. Further, the report indicates that the need for qualified VR counselors continues to exist and is driven strongly by impending retirements (O*NET, 2018).

In addition, the Rehabilitation Act includes new expectations and job requirements for VR counselors. As a result, universities will need to modify their curricula and academic programs so that individuals graduating from VR academic programs are ready to meet these requirements and the needs of their clients with disabilities. New modules for training of working VR professionals and paraprofessionals will need to be developed.

With respect to Topic Area 2—VR services to individuals with ASD, the Centers for Disease Control and Prevention's (CDC's) Autism and Developmental Disabilities Monitoring Network estimates that approximately 1 in 59 children has been identified with ASD (or 16.8 per 1,000 8-year-olds). ASD is reported to occur in all racial, ethnic, and socioeconomic groups and is about four times more common among boys than among girls (CDC, 2018).

Further, there are gaps within the systems that support individuals with ASD. As an example, Advancing Futures for Adults with Autism (AFAA) noted that a 2008 study conducted in Florida by the Center for Autism and Related Disabilities showed that approximately 67 percent of the 200 families of 18- to 22-year-olds with autism surveyed did not have knowledge of transition services, 73 percent indicated they need help with their job, 63 percent need help with daily living, and 78 percent did not know of agencies or professionals who can help them find work. The study also showed that while 74 percent of those surveyed want to work, only 19 percent were currently working. (AFAA, 2014).

State VR agencies serve individuals with ASD, and VR professionals and paraprofessionals need to be trained to provide services that meet their needs. According to the RSA-911, in program year (PY) 2017, State VR agencies determined 29,678 individuals with ASD to be eligible for VR services, served 43,841 individuals with ASD under individualized plans for employment (IPEs), and had 9,850 individuals with ASD exit the VR system in competitive integrated or supported employment. In addition, 13,793 individuals with ASD exited the VR system without employment after eligibility was determined or after an IPE was signed, 9 individuals with ASD exited in noncompetitive or nonintegrated employment after an IPE was signed, and 96 individuals with ASD exited after they were determined ineligible for VR services (U.S. Department of Education, 2018).

With respect to Topic Area 3—VR services to individuals with intellectual disabilities, the State VR agencies serve a large number of individuals with intellectual disabilities (ID), so VR professionals and paraprofessionals need to be trained to provide appropriate services to meet their needs. According to the RSA-911, in PY 2017, 35.4 percent (338,757) of the individuals served by State VR agencies (957,082) were individuals with ID, including 36,183 who were determined eligible for VR services, 46,816 who had IPEs, and 13,586 who exited the VR system in competitive integrated or supported employment. In addition, 22,187 individuals with ID exited the VR system without an employment outcome after eligibility was determined or after an IPE was signed, 9 individuals with ID exited in noncompetitive or nonintegrated employment after an IPE was signed, and 135 individuals with ID exited after being determined ineligible for VR services (U.S. Department of Education, 2018).

With respect to Topic Area 4—career assessment for VR service recipients, vocational evaluation is important for identifying and providing VR services that will enable individuals with disabilities to achieve employment outcomes consistent with their unique capabilities, interests, and informed choice. As defined by the Wilson Workforce and Rehabilitation Center, “vocational evaluation is an educational process in which a client obtains greater self and work knowledge through participation in work activities designed to evaluate vocational skills, interests, and abilities. Clients learn about the functional impact of their disability in relation to their career options. They also learn about assistive technology and the devices and accommodations needed to remove barriers to employment. The evaluation process encourages personal involvement in career planning and development and empowers clients by increasing their self-confidence in career decision making” (Wilson Workforce and Rehabilitation Center, 2018).

According to the RSA-911, in PY 2017, 271,124 individuals received career assessment services from VR personnel. Given that career assessment services are essential when assisting VR consumers to identify their employment goals, it is critical that VR personnel remain current in their ability to provide career assessment services.

With respect to Topic Area 5—employer engagement, the most recent amendments to the Rehabilitation Act included an enhanced focus on employer engagement. For example, the purpose section of the Rehabilitation Act was expanded to include increasing employment opportunities and employment outcomes for individuals with disabilities, including through encouraging meaningful input by employers and VR service providers on successful and prospective employment and placement strategies. The Rehabilitation Act also now allows VR agencies to provide training and services for employers who have hired or are interested in hiring individuals with disabilities under its programs. These services may include: (1) Providing training and technical assistance to employers regarding the employment of individuals with disabilities, including disability awareness and the requirements of the Americans with Disabilities Act of 1990 and other employment-related laws; (2) working with employers to (a) provide opportunities for work-based learning experiences, including internships, short-term employment, apprenticeships, and fellowships, and opportunities for pre-employment transition services, (b) recruit qualified applicants who are individuals with disabilities, (c) train employees who are individuals with disabilities, and (d) promote awareness of disability-related obstacles to continued employment; (3) providing consultation, technical assistance, and support to employers on workplace accommodations, assistive technology, and facilities and workplace access through collaboration with community partners and employers, across States and nationally, to enable the employers to recruit, job match, hire, and retain qualified individuals with disabilities who are recipients of VR services under the Rehabilitation Act, or who are applicants for such services; and (4) assisting employers with utilizing available financial support for hiring or accommodating individuals with disabilities. (Section 109 of the Rehabilitation Act.) State VR agencies are required to describe, in the State plan, how they will work with employers to identify competitive integrated employment opportunities and career exploration opportunities to provide VR services and transition services for youth with disabilities and students with disabilities. State VR agencies may engage with employers throughout the VR process, including at job placement, development of customized employment opportunities for individuals, and follow-up services.

Given that employer engagement promotes increased employment opportunities for individuals with disabilities who are receiving VR services, it is critical that VR personnel remain current in their ability to work with and engage employers in the VR process, including employers representing the 21st-century labor market, to include in-demand fields and fields related to science, technology, engineering, and mathematics (STEM) that meet the local labor market needs.

Priority: The purpose of this priority is to fund projects designed to develop, pilot, refine, implement, evaluate, and disseminate new, or substantially improved, innovative rehabilitation training in six topic areas to support the work of the State VR agencies and the implementation of the Rehabilitation Act.

The six topic areas are:

(a) Topic Area 1—VR counseling.

The most recent amendments to the Rehabilitation Act contained many changes that affect VR counseling. Therefore, a project in this topic area must review current VR counseling curricula used by universities and prepare, as appropriate, novel, innovative modules that universities can include to update the curricula and that can be used by a variety of trainers to provide short-term or other training to VR professionals and paraprofessionals. Projects must include information about training on how to—

(1) Use evidence-based ¹ information and data in the VR process;

¹ For the purposes of this priority, “evidence-based” means the proposed project component is supported, at a minimum, by evidence that demonstrates a rationale (as defined in 34 CFR 77.1), where a key project component included in the project's logic model (as defined in 34 CFR 77.1) is informed by research or evaluation findings that suggest the project component is likely to improve relevant outcomes (as defined in 34 CFR 77.1).

(2) Use labor market analyses in developing VR goals and providing informed choice to individuals with disabilities receiving VR services;

(3) Engage the dual customers, that is, individuals with disabilities and employers;

(4) Engage with other partners in the workforce development system, including, at a minimum, Workforce Development Boards or career centers, businesses or industry associations, training or educational institutions, and community-based organizations; and

(5) Address changes resulting from the amendments to the Rehabilitation Act and other trends in the field related to service delivery, including, at a minimum, supported employment, pre-employment transition services, and customized employment.

(b) Topic Area 2—VR services to individuals with ASD.

To address the increasing numbers of individuals with ASD and to provide services designed to meet the unique needs of each individual with ASD, a project in this topic area must develop current and, to the extent possible, evidence-based training modules. These modules must be available for inclusion in VR counseling education programs and short-term training for VR professionals and paraprofessionals, individuals studying to become VR professionals and paraprofessionals, and, as appropriate, representatives of individuals with disabilities, including parents, family members, guardians, advocates, and other authorized representatives. The subject of the training must be providing VR services to individuals with ASD, and, as appropriate, representatives of individuals with ASD, including parents, family members, guardians, advocates, and other authorized representatives.

(c) Topic Area 3—VR services to individuals with ID.

To address the large number of individuals with ID who are served by the VR agencies and to provide services designed to meet the unique needs of each individual with ID, a project in this topic area must develop current and, to the extent possible, evidence-based training modules for inclusion in rehabilitation counseling education programs and for use as stand-alone modules to provide short-term training for VR professionals, paraprofessionals, individuals studying to become VR professionals and paraprofessionals, and, as appropriate, representatives of individuals with disabilities, including parents, family members, guardians, advocates, and other authorized representatives. The subject of the training must be providing VR services to individuals with ID and, as appropriate, representatives of individuals with ID, including parents, family members, guardians, advocates, and other authorized representatives.

(d) Topic Area 4—Career assessments for VR service recipients.

To address the importance of vocational evaluation in identifying and providing VR services, a project in this topic area must develop current and, to the extent possible, evidence-based training modules for inclusion in rehabilitation counseling education programs and short-term training for VR professionals, paraprofessionals, individuals studying to become VR professionals and paraprofessionals, and, as appropriate, representatives of individuals with disabilities, including parents, family members, guardians, advocates, and other authorized representatives. The subject of the training must be providing career assessment VR services in the 21st-century labor market, including assessments for careers in in-demand fields and STEM, to meet local labor market needs.

(e) Topic Area 5—Employer engagement in the VR process.

To address the enhanced focus on employer engagement in the most recent amendments to the Rehabilitation Act, a project in this topic area must develop current and, to the extent possible, evidence-based training modules for inclusion in rehabilitation counseling education programs and short-term training for VR professionals, paraprofessionals, individuals studying to become VR professionals and paraprofessionals, and, as appropriate, representatives of individuals with disabilities, including parents, family members, guardians, advocates, and other authorized representatives. The subject of the training must be engaging employers in the VR process, including employers in in-demand fields and STEM, to meet local labor market needs.

(f) Topic Area 6—Field-initiated project in an area related to VR.

Field-initiated projects must be designed to develop training for VR personnel in an area for which no training currently exists, enhance training in an area for which the existing training is no longer current or relevant, or enhance training in an area that has received increased emphasis under the Rehabilitation Act. In each case, applicants must provide sufficient evidence to demonstrate the need for the training in a proposed new topic area or, in areas for which there is existing training, demonstrate that the existing training is not adequately meeting the needs of VR professionals, paraprofessionals, and individuals studying to become VR professionals and paraprofessionals.

Application Requirements

General Application Requirements:

(a) Applicants must identify the specific topic area (1, 2, 3, 4, 5, or 6) under which they are applying as part of the competition title on the application cover sheet (SF form 424, line 4).

(b) Applicants may submit proposals under more than one topic area.

(c) Applicants may combine more than one topic area, and these applications must be submitted under Topic Area 6—Field-initiated project.

(d) For each topic area, applicants must develop a new training program, a substantially improved training program, and/or stand-alone modules to be incorporated into an existing academic degree program for educating VR counselors or other VR professionals and paraprofessionals and into short-term training for VR professionals. The training program or modules must be developed by the end of the first year of the project period and piloted, refined, implemented, evaluated, and disseminated in years two, three, four, and five of the project period. Applicants must describe a process for feedback and continuous improvement to ensure the training program or modules are refined throughout years two, three, four, and five. Applicants must provide adequate justification in their application if they determine additional time may be necessary to fully develop a curriculum and obtain input and feedback from key partners, relevant stakeholders, and individuals with disabilities.

(e) The training must be of sufficient scope, intensity, and duration for VR professionals, paraprofessionals, and individuals studying to become VR professionals and paraprofessionals to achieve increased skill, knowledge, and competence in the topic area.

Note: Applications that propose only to continue existing training in these topic areas are not eligible for funding.

Specific Application Requirements: In addition to meeting the absolute priority and the general application requirements, all applicants must meet the following specific application requirements:

(a) Demonstrate, in the narrative section of the application under “Need for Project and Relevance to State-Federal Rehabilitation Service Program,” how—

(1) The proposed project will address current and projected training needs and, if applicable, personnel shortages in the identified topic area in State VR agencies and related agencies nationally. Applicants must present data demonstrating such training needs and, if applicable, personnel shortages;

(2) The proposed project will identify the evidence-based training and baseline data that currently exist in the topic area and describe why there is a need to establish innovative rehabilitation training modules in the identified area. In the event that an applicant proposes training in a topic area for which training does not currently exist or for which there are no baseline data, the applicant must explain the lack of training or reliable data and may report zero as a baseline; and

(3) The proposed project will increase the number of trained VR professionals and paraprofessionals in the topic area. To address this requirement, the applicant must describe the competencies that VR professionals and paraprofessionals must demonstrate in order to provide high-quality services.

(b) Demonstrate, in the narrative section of the application under “Quality of Project Design,” how—

(1) The proposed project will actively engage consumers, consumer organizations, employers, and service providers, especially State VR agencies, in the proposed project, including project development, design, implementation, delivery of training, dissemination, sustainability planning, program evaluation, and other relevant areas as determined by the applicant;

(2) The proposed project will develop, pilot, and refine new or enhanced modules for training of working VR professionals and paraprofessionals and individuals studying to become VR professionals and paraprofessionals in the topic area. The applicant must describe the scope of the proposed training to be developed, the mode of delivery, and the intended long-term outcome of the training;

(3) The proposed project will provide training in person or via on-line delivery to VR professionals, paraprofessionals, and individuals studying to become VR professionals and paraprofessionals;

(4) The proposed project will identify the number of individuals proposed to be enrolled in the training program, by cohort, each year of the proposed project;

(5) The proposed project will identify and partner with trainers who are certified and recognized in the topic area to develop and deliver the training;

(6) The proposed project will use current research and evidence-based practices. To address this requirement, the applicant must—

(i) Describe how the proposed project will incorporate current research and evidence-based practices in the development and delivery of its products and training; and

(ii) Describe how the proposed project will engage training recipients with different learning styles; and

(7) The proposed project will conduct dissemination and coordination activities. To address this requirement, the applicant must—

(i) Describe how the proposed project will disseminate information to VR agencies, related agencies, academic programs with VR counseling programs, and other training providers; disseminate information to VR professionals and paraprofessionals about training available in the topic area; broadly disseminate successful strategies for preparing VR professionals and paraprofessionals in the topic area; and disseminate information to individuals with disabilities, parents, family members, guardians, advocates, and authorized representatives via the RSA Parent Information and Training programs and the National Clearinghouse of Rehabilitation Training Materials, a state-of-the-art archiving and dissemination system that is open and available to the public and provides a central location for later use of training materials, including curricula, audiovisual materials, webinars, examples of emerging and evidence-based practices, and any other relevant material;

(ii) Describe the process for submitting all materials to the National Clearinghouse of Rehabilitation Training Materials;

Note: All products produced by the grantees must meet government- and industry-recognized standards for accessibility, including section 508 of the Rehabilitation Act.

(iii) Describe its approach for incorporating the use of information technology (IT) into all aspects of the proposed project. The approach must include establishing and maintaining a state-of-the-art IT platform that is sufficient to support webinars, teleconferences, video conferences, and other virtual methods for disseminating information. Proposed projects may either develop new platforms or systems or may modify existing platforms or systems, so long as the requirements of this priority are met; and

(iv) Describe its approach for conducting coordination and collaboration activities. To meet this requirement, the applicant must—

(A) Establish a community of practice ² in the topic area of training that focuses on the proposed project's activities and acts as a vehicle for communication and exchange of information among participants in the program and other relevant stakeholders;

² A community of practice (CoP) is a group of people who work together to solve a persistent problem or to improve practice in an area that is important to them and who deepen their knowledge and expertise by interacting on an ongoing basis. CoPs exist in many forms, some large in scale that deal with complex problems, others small in scale that focus on a problem at a very specific level. See http://www.wintac.org/cop for examples of CoPs established through other RSA grants.

(B) Communicate, collaborate, and coordinate with other relevant Department-funded projects, as applicable;

(C) Maintain ongoing communication with the RSA project officer and other RSA staff as required; and

(D) Communicate, collaborate, and coordinate, as appropriate, with key staff in State VR agencies; State and local educational agencies and partner programs; organizations and associations of, or representing, individuals with disabilities; relevant RSA partner organizations and associations; and individuals with disabilities, parents, family members, guardians, advocates, and authorized representatives via the RSA Parent Information and Training programs and the National Clearinghouse of Rehabilitation Training Materials.

(c) Demonstrate, in the narrative section of the application under “Quality of Project Services,” how—

(1) The proposed project will ensure equal access and treatment for eligible proposed project participants who are members of groups that have traditionally been underrepresented based on race, color, national origin, gender, age, or disability;

(2) The proposed project will identify high-quality applicants for participation in the program, including any pre-assessments that may be used to determine the skill, knowledge base, and competence of the VR professionals and paraprofessionals and individuals studying to become VR professionals and paraprofessionals;

(3) The proposed project will ensure that all training activities and materials are fully accessible;

(4) The proposed project will enable VR professionals, paraprofessionals, and individuals studying to become VR professionals and paraprofessionals to participate in and successfully complete the training program, including participants who need to work while in the program, have child care or elder care considerations, or live in geographically isolated areas. The approach must emphasize innovative instructional delivery methods, such as distance learning or block scheduling (a type of academic scheduling that offers fewer classes per day for longer periods of time), which would allow working VR professionals, paraprofessionals, and individuals studying to become VR professionals and paraprofessionals to more easily participate in the program; and

(5) The training will be of sufficient scope, intensity, and duration to adequately prepare VR professionals, paraprofessionals, and individuals studying to become VR professionals and paraprofessionals in the identified topic area. To address this requirement, the applicant must—

(i) Describe the components of the training that will allow VR professionals, paraprofessionals, and individuals studying to become VR professionals and paraprofessionals to acquire and enhance the identified competencies;

(ii) Describe the components of the training that will allow VR professionals, paraprofessionals, and individuals studying to become VR professionals and paraprofessionals to apply their content knowledge in a practical setting; and

(iii) Describe how the proposed project will provide VR professionals, paraprofessionals, and individuals studying to become VR professionals and paraprofessionals with ongoing guidance and feedback throughout the training provided.

(d) Demonstrate, in the narrative section of the application under “Quality of Project Personnel,” how—

(1) The proposed project will encourage applications for employment with the project from persons who are members of groups that have historically been underrepresented based on race, color, national origin, gender, age, or disability; and

(2) The proposed project director or principal investigator and other key proposed project personnel, consultants, and subcontractors have the qualifications and experience to develop and provide training to VR professionals and paraprofessionals in the topic area.

Note: While applicants may not hire staff or select trainees based on race or national origin/ethnicity, they may conduct outreach activities to increase the pool of eligible candidates from groups that have traditionally been underrepresented based on race, color, national origin, gender, age, or disability. We will disqualify and not consider for funding any applicant that indicates that it will hire or train a certain number or percentage of candidates from groups that have traditionally been underrepresented based on race, color, national origin, gender, age, or disability.

(e) Demonstrate, in the narrative section of the application under “Adequacy of Resources and Quality of the Management Plan,” how—

(1) The applicant and any identified partners in the proposed project have an adequate commitment to the proposed project and the resources to carry out the proposed activities, and will contribute to the implementation and success of the proposed project;

(2) The proposed project costs are reasonable in relation to the anticipated results and benefits;

(3) The training will be continued after Federal funding ends;

(4) The management plan will ensure that the proposed project's intended outcomes will be achieved on time and within budget. To meet this requirement, the applicant must—

(i) Describe the defined responsibilities for key proposed project personnel, consultants, and subcontractors, as applicable, how these responsibilities will be allocated to the proposed project, and how these allocations are appropriate and adequate to achieve the proposed project's intended outcomes, including an assurance that such personnel will have adequate availability to ensure timely communications with stakeholders and RSA; and

(ii) Describe the timelines and milestones for accomplishing the proposed project tasks;

(5) The proposed project management plan will ensure that the products and services provided are of high quality; and

(6) The proposed project will benefit from a diversity of perspectives, especially relevant partners, groups, and organizations described throughout this notice, in its development and operation.

(f) Describe, in the narrative section of the application under “Quality of the Project Evaluation,” the evaluation plan for the proposed project. At a minimum, the proposed project must evaluate the quality of the proposed training modules; refine the training modules based on the evaluation outcomes; re-evaluate the refined training modules; provide guidance about effective strategies suitable for replication in other settings; and identify, track, and report the number of academic programs that adopt the content, State VR agencies and related agencies that use the content to train VR professionals and paraprofessionals, and other training entities that use the content to train VR professionals and paraprofessionals.

To address this requirement, the applicant must—

(1) Describe the evaluation mechanism for assessing the quality of the training developed and the iterative process to be used for improving the training based on evaluation outcomes;

(2) Describe the approach, using pre- and post-assessments, for assessing the level of knowledge, skills, and competencies gained among participants;

(3) Describe the measures of progress in implementation, including the extent to which the proposed project's activities and products have been adopted by academic programs or used by State VR agencies, related agencies, and other training entities, and the intended outcomes of the proposed project's activities in order to evaluate those activities and how well the goals and objectives of the proposed project, as described in its logic model,³ have been met;

³ As defined in 34 CFR 77.1, “logic model” (also referred to as a theory of action) means a framework that identifies key project components of the proposed project (i.e., the active “ingredients” that are hypothesized to be critical to achieving the relevant outcomes) and describes the theoretical and operational relationships among the key project components and relevant outcomes.

(4) Describe how the evaluation plan will be implemented and revised, as needed, during the proposed project. The applicant must designate at least one individual with sufficient dedicated time, experience in evaluation, and knowledge of the proposed project to coordinate the design and implementation of the evaluation, including designing instruments and developing quantitative or qualitative data collections that permit the collection of progress data and assessment of project outcomes. This includes coordination with any identified partners in the application and RSA to make revisions post-award to the logic model in order to reflect any changes or clarifications to the model and to the evaluation design and instrumentation;

(5) Describe the standards and targets for determining effectiveness of the proposed project; and

(6) Describe how evaluation results will provide performance feedback and permit periodic assessment of progress toward achieving intended outcomes.

(h) Include in Appendix A the following—

(1) A logic model that depicts, at a minimum, the goals, activities, outputs, and intended outcomes of the proposed project;

(2) A person-loading chart and timeline, as applicable, to illustrate the management plan described in the narrative; and

(3) A sustainability plan to ensure the training will continue after Federal funding ends.

Fourth and Fifth Years of the Project: In deciding whether to continue funding each Innovative Rehabilitation Training project for the fourth and fifth years, the Department will consider the requirements of 34 CFR 75.253(a). In addition, as part of the review of the application narrative and annual performance reports, RSA will consider the degree to which the program demonstrates substantial progress toward completing the tasks outlined in the priority, with particular emphasis on the quality, relevance, and usefulness of the grantee's training program and activities, and the degree to which the training program and activities and their outcomes have contributed to significantly improving the quality of VR professionals and paraprofessionals employed in or ready for employment in State VR agencies and related agencies.

References

21-1015.00 Summary Report—Rehabilitation Counselors. National Center for O*NET Development. Rehabilitation Counselors. (2018). Retrieved from https://www.onetonline.org/link/summary/21-1015.00www.onetonline.org/link/summary/21-1015.00.

Advancing Futures for Adults with Autism. (2014). Autism on the Rise. Retrieved from http://www.afaa-us.org/aboutwww.afaa-us.org/about.

Bureau of Labor Statistics, U.S. Department of Labor, Occupational Outlook Handbook, Rehabilitation Counselors. Retrieved from https://www.bls.gov/ooh/community-and-social-service/rehabilitation-counselors.htm.

Centers for Disease Control and Prevention: Autism Spectrum Disorder. (November 15, 2018). Retrieved from https://www.cdc.gov/ncbddd/autism/data.htmlwww.cdc.gov/ncbddd/autism/data.html.

U.S. Department of Education, Office of Special Education and Rehabilitative Services, Rehabilitation Services Administration. (2018). Case Service Report (RSA-911), PY 2017.

Wilson Workforce and Rehabilitation Center: Vocational Evaluation Services. (January 18, 2018). Retrieved from https://www.wwrc.net/VocationalEvaluation.htmwww.wwrc.net/VocationalEvaluation.htm.

Waiver of Proposed Rulemaking: Under the Administrative Procedure Act (5 U.S.C. 553) the Department generally offers interested parties the opportunity to comment on proposed priorities and requirements. Section 437(d)(1) of GEPA, however, allows the Secretary to exempt from rulemaking requirements regulations governing the first grant competition under a new or substantially revised program authority. This is the first grant competition for this program under section 302 of the Rehabilitation Act (20 U.S.C. 772), and therefore qualifies for this exemption. In order to ensure timely grant awards, the Secretary has decided to forgo public comment on the priority and requirements under section 437(d)(1) of GEPA. This priority and these requirements will apply to the FY 2019 grant competition and any subsequent year in which we make awards from the list of unfunded applications from this competition.

Program Authority: 29 U.S.C. 709(c) and 772.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 385 and 387.

Note: The regulations in 34 CFR part 79 apply to all applicants except federally recognized Indian Tribes.

Note: The regulations in 34 CFR part 86 apply to institutions of higher education (IHEs) only.

II. Award Information

Type of Award: Discretionary grants.

Estimated Available Funds: $2,700,000.

Contingent upon the availability of funds and the quality of applications, we may make additional awards in subsequent years from the list of unfunded applications from this competition.

Estimated Range of Awards: $375,000-$450,000.

Maximum Award: We will not make an award exceeding $450,000 for a single budget period of 12 months.

Estimated Number of Awards: 6.

Note: The Secretary intends to fund a total of six projects in FY 2019 including one project from each of the five identified topic areas and one in the field-initiated area. As a result, the Secretary may fund applications out of rank order.

Note: The Department is not bound by any estimates in this notice.

Note: Under 34 CFR 75.562(c), an indirect cost reimbursement on a training grant is limited to the recipient's actual indirect costs, as determined by its negotiated indirect cost rate agreement, or 8 percent of a modified total direct cost base, whichever amount is less. Indirect costs in excess of the limit may not be charged directly, used to satisfy matching or cost-sharing requirements, or charged to another Federal award.

Project Period: Up to 60 months.

III. Eligibility Information

1. Eligible Applicants: States and public or private nonprofit agencies and organizations, including Indian Tribes and IHEs.

2. Cost Sharing or Matching: A grantee must contribute to the cost of a project under this program in an amount satisfactory to the Secretary. The part of the costs to be borne by the grantee is determined by the Secretary at the time of the grant award. For the purposes of this competition, the grantee is required to contribute at least 10 percent of the total cost of the project under this program. To calculate match, applicants may use the match-calculator available at: https://rsa.ed.gov/match-calculator.cfm. The Secretary does not, as a general matter, anticipate waiving this requirement in the future. Furthermore, given the importance of matching funds to the long-term success of the project, eligible entities must identify appropriate matching funds in the proposed budget. Finally, the selection criteria include factors such as “the adequacy of support, including facilities, equipment, supplies, and other resources, from the applicant organization or the lead applicant organization” and “the relevance and demonstrated commitment of each partner in the proposed project to the implementation and success of the project,” which may include a consideration of demonstrated matching support.

3. Subgrantees: Under 34 CFR 75.708(b) and (c) a grantee under this competition may not award subgrants to entities to directly carry out project activities described in its application. Under 34 CFR 75.708(e), a grantee may contract for supplies, equipment, and other services in accordance with 2 CFR part 200.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the Rehabilitation Training: Innovative Rehabilitation Training Program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. However, under 34 CFR 79.8(a), we waive intergovernmental review in order to make an award by the end of FY 2019.

4. Funding Restrictions: We reference regulations outlining funding restrictions in the Applicable Regulations section of this notice.

5. Recommended Page Limit: The application narrative (Part III of the application) is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 387.30 and 34 CFR 75.210, and are as follows:

(a) Need for project and relevance to State-Federal rehabilitation service program. (10 points)

(1) The Secretary considers the need for the proposed project.

(2) In determining the need for the proposed project, the Secretary considers the extent to which the proposed project will prepare personnel for fields in which shortages have been demonstrated.

(3) The Secretary reviews each application for information that shows that the proposed project appropriately relates to the mission of the State-Federal rehabilitation service program.

(4) The Secretary looks for information that shows that the project can be expected either—

(i) To increase the supply of trained personnel available to public and private agencies involved in the rehabilitation of individuals with disabilities; or

(ii) To maintain and improve the skills and quality of rehabilitation personnel.

(b) Quality of the project design. (25 points)

(1) The Secretary considers the quality of the design of the proposed project.

(2) In determining the quality of the design of the proposed project, the Secretary considers the following factors:

(i) The extent to which the goals, objectives, and outcomes to be achieved by the proposed project are clearly specified and measurable.

(ii) The extent to which performance feedback and continuous improvement are integral to the design of the proposed project.

(c) Quality of project services. (25 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the training or professional development services to be provided by the proposed project are of sufficient quality, intensity, and duration to lead to improvements in practice among the recipients of those services.

(ii) The extent to which the training or professional development services to be provided by the proposed project are likely to alleviate the personnel shortages that have been identified or are the focus of the proposed project.

(d) Quality of project personnel. (15 points)

(1) The Secretary considers the quality of the personnel who will carry out the proposed project.

(2) In determining the quality of the project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(e) Adequacy of resources and quality of management plan. (15 points)

(1) The Secretary considers the adequacy of resources for the proposed project.

(2) In determining the adequacy of resources for the proposed project, the Secretary considers the following factors:

(i) The adequacy of support, including facilities, equipment, supplies, and other resources, from the applicant organization or the lead applicant organization.

(ii) The relevance and demonstrated commitment of each partner in the proposed project to the implementation and success of the project.

(iii) The extent to which the costs are reasonable in relation to the number of persons to be served and to the anticipated results and benefits.

(iv) The potential for the incorporation of project purposes, activities, or benefits into the ongoing program of the agency or organization at the end of the Federal funding.

(3) The Secretary considers the quality of the management plan for the proposed project.

(4) In determining the quality of the management plan for the proposed project, the Secretary considers the following factors:

(i) The adequacy of the management plan to achieve the objectives of the proposed project on time and within budget, including clearly defined responsibilities, timelines, and milestones for accomplishing project tasks.

(ii) The adequacy of procedures for ensuring feedback and continuous improvement in the operation of the proposed project.

(f) Quality of project evaluation. (10 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the evaluation will provide guidance about effective strategies suitable for replication or testing in other settings.

(iii) The extent to which the methods of evaluation will provide performance feedback and permit periodic assessment of progress toward achieving intended outcomes.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit semiannual and annual performance reports that provide the most current performance and financial expenditure information as directed by the Secretary under 34 CFR 75.118. The Secretary may also require more frequent performance reports under 34 CFR 75.720(c). For specific requirements on reporting, please go to www.ed.gov/fund/grant/apply/appforms/appforms.html.

5. Performance Measures: The Government Performance and Results Act of 1993 (GPRA) directs Federal departments and agencies to improve the effectiveness of their programs by engaging in strategic planning, setting outcome-related goals for programs, and measuring program results against those goals.

The performance measures for this program are as follows:

(1) The number of individuals enrolled in the Innovative Rehabilitation Training program, by cohort, during the reporting period.

(2) The number and percentage of individuals who successfully completed the Innovative Rehabilitation Training program, by cohort, during the reporting period.

The GPRA measures are as follows:

(1) The quality of the training developed, as measured by a panel of VR agencies.

(2) The relevance of the training developed, as measured by a panel of VR agencies.

(3) The usefulness of the training developed, as measured by a panel of VR agencies.

Innovative Rehabilitation Training program grantees must submit the following quantitative and qualitative data in a semiannual and annual performance report:

(a) Program activities that occurred during each fiscal year from October 1 to March 31 and projected program activities to occur from April 1 to September 30 should be included in the semiannual performance report.

(b) Program activities that occur during years 2-5 from October 1 to September 30 should be included in the annual performance report.

Annual project progress toward meeting project goals must be posted on the project website or university website.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Johnny W. Collett,
Assistant Secretary for Special Education and Rehabilitative Services.

[FR Doc. 2019-14272 Filed 7-3-19; 8:45 am]

BILLING CODE 4000-01-P